DEPARTMENT OF LABOR

Office of the Secretary

Agency Recordkeeping/Reporting Requirements Under Emergency Review by the Office of Management and Budget (OMB)

September 5, 2000.

The Department of Labor has submitted the following (see below) emergency processing public information collection request (ICR) to the Office of Management and Budget (OMB) for review and clearance under the Paperwork Reduction Act of 1995 (Pub.L. 104-13, 44 U.S.C. Chapter 35). OMB approval has been requested by October 12, 2000. A copy of this ICR, with applicable supporting documentation, may be obtained by calling the Department of Labor Departmental Clearance Office, Ira Mills (202) 219-5095, x 113. Comments and questions about the ICR listed below should be forwarded to Office Information and Regulatory Affairs, Attn: OMB Desk Officer for the Employment and Training Administration, Office of Management and Budget, Room 10235, Washington, DC 20503 (202) 395-7316. Written comments must be submitted to OIRA on or before October 10, 2000.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of response.

Agency: Employment and Training Administration.

Title: One-Stop Labor Market Information Grant Reporting.

OMB Number: 1205-ONEW.

Affected Public: States.

Form | No. of respondents | Responses per year | Total responses | Hours per response | Total burden hours
Annual Plan | 54 | 2 | 54 | 36 | 1,944
Progress Reports | 54 | 2 | 108 | 67 | 648
Total | 54 | 3 | 162 | 43 | 2,592

Total Burden Cost (capital/startup): $0.

Total Burden Cost (operating/maintaining): $0.

Description: ETA seeks approval of an annual plan narrative and two progress reports as requirements for One Stop Labor Market Information grants. This information will be used by the Department of Labor and its managing State partners to assure that a employment statistics system required by Wagner Peyser as amended by the Workforce Investment Act meets the needs of its customers. States seeking grants are requested to provide an annual grant narrative that provides specific information on how the grant funds will accomplish any of seven priorities developed by the Department through the Workforce Information Council. In addition the States are requested to provide a brief progress report twice during the grant period which explains the progress of the grantee in accomplishing the plan.

Ira Mills,
Departmental Clearance Officer.

[FR Doc. 00-23347 Filed 9-11-00; 8:45 am]

BILLING CODE 4510-30-M